Title 3—

The President

Proclamation 9304 of July 27, 2015

World Hepatitis Day, 2015

By the President of the United States of America

A Proclamation

Around the world, doctors, medical researchers, and other professionals dedicated to health care and public health are working hard every day to combat disease and build healthier communities. Their efforts have led to improved sanitation, cleaner water, better access to care, and improvements in how we diagnose, treat, and prevent disease. Today, on World Hepatitis Day, we join in these efforts to improve lives here at home and abroad by raising awareness of a silent epidemic and reaffirming our commitment to combat it.

Nearly 400 million people worldwide are living with viral hepatitis, and more than 1 million people die each year from this disease. Yet because hepatitis often persists silently for years before revealing any symptoms, many — including about two-thirds of the Americans who live with it — are unaware of their infection status, which can lead to long-term liver damage and death.

Prevention and early detection are essential to saving lives. Safe and effective vaccines for hepatitis A and B are widely available, and simple blood tests for hepatitis B and C can lead to early detection and life-saving care and treatment, including the cure of the infection. I encourage all Americans to ask their health care provider about hepatitis, and to learn more by visiting www.CDC.gov/Hepatitis.

As President, I am committed to advancing the fight against viral hepatitis infections. The Affordable Care Act has increased access to quality, affordable health care for millions of Americans — creating more opportunities for early detection of viral hepatitis — and it requires most insurance plans to cover recommended preventive services without copays, including hepatitis A and B vaccines and hepatitis B and C screenings. New protections under the law also eliminate annual and lifetime dollar limits on coverage and prohibit insurers from denying coverage because of pre-existing conditions, including hepatitis.

Guided by our Action Plan for the Prevention, Care, and Treatment of Viral Hepatitis, my Administration is working with government, private, and non-profit organizations to ensure that new cases of viral hepatitis are prevented. We also remain invested in addressing related health issues such as liver cancer, HIV infection, and substance use disorders, and the disproportionate impact viral hepatitis infections have on African Americans, Asian Americans and Pacific Islanders, and American Indians and Alaska Natives, as well as our Nation's young people.

Today, we renew our commitment to those impacted by hepatitis and to all those we have lost to this disease. Let us resolve to break the silence surrounding hepatitis, and redouble our efforts to defeat it in all its forms.

NOW, THEREFORE, I, BARACK OBAMA, President of the United States of America, by virtue of the authority vested in me by the Constitution and the laws of the United States, do hereby proclaim July 28, 2015, as World Hepatitis Day. I encourage citizens, Government agencies, non-profit organizations, and communities across the Nation to join in activities that will increase awareness about hepatitis and what we can do to prevent it.

IN WITNESS WHEREOF, I have hereunto set my hand this twenty-seventh day of July, in the year of our Lord two thousand fifteen, and of the Independence of the United States of America the two hundred and fortieth.

[FR Doc. 2015-18946

Filed 7-30-15; 8:45 am]

BILLING CODE 3295-F5